DEPARTMENT OF THE INTERIOR

Office of the Secretary

Information Quality Guidelines Pursuant to Section 515 of the Treasury and General Government Appropriations Act for Fiscal Year 2001 (Public Law 106-554; H.R. 5658)

AGENCY: U.S. Department of the Interior.

ACTION: Notice of Availability of Proposed Bureau Information Quality Guidelines for: Bureau of Land Management; Bureau of Reclamation; Fish and Wildlife Service; Office of Surface Mining; Minerals Management Service; National Park Service; U.S. Geological Survey.

SUMMARY: The U.S. Department of the Interior is issuing notice of availability of the proposed bureau-specific Information Quality Guidelines in order to comply with the guidance published by the Office of Management and Budget, in the Federal Register, Vol., 2, No. 67, dated January 2, 2002, and re-issued February 22, 2002, Vol. 67, No. 36.

FOR FURTHER INFORMATION CONTACT: Nancy Trent, U.S. Department of the Interior, Office of the Chief Information Officer, Phone: 202-208-6051, fax: 202-501-7864.

SUPPLEMENTARY INFORMATION: The Department of the Interior issued proposed draft guidelines, made available for public comment on the web at http://www.mms.gov/whatsnew/ on May 24, 2002, which provide a framework for these bureau policies and which may be referred to for more information, The U.S. Department of the Interior, its offices, and its component bureaus disseminate a wide variety of information to the public regarding the Nation's Federal lands, National Parks, natural resources, geographic and spatial data, wildlife and fisheries, and Indian lands. As the Department of the Interior operates a decentralized information management program, its subordinate bureaus are responsible for establishing administrative procedures for review of information quality. These proposed Information Quality Guidelines detail the procedures under which each separate bureau intends to operate. These documents are intended to incorporate the basic guidance set forth by the Office of Management and Budget, and the proposed guidance published by the U.S. Department of the Interior. Persons interested in reviewing the proposed Information Quality Guidelines issued by the Bureau of Land Management; Bureau of Reclamation; Fish and Wildlife Service; Office of Surface Mining; Minerals Management Service; National Parks Service; and the U.S. Geological Survey, may access these proposed guidelines via the website for the U.S. Department of the Interior (http://;www.doi.gov), then accessing Bureaus, then the bureau(s) of interest. Comments on a particular bureau's proposed guidelines should be submitted to that bureau according to the instructions on its website. Comment period will be open no less than thirty (30) days. The bureaus may specify a longer period.

Dated: July 26, 2002.
P. Lynn Scarlett,
Assistant Secretary for Policy, Management and Budget.

[FR Doc. 02-19609 Filed 8-2-02; 8:45 am]

BILLING CODE 4310-RK-M